RECOVERY ACCOUNTABILITY AND TRANSPARENCY BOARD

Proposed Information Collection

ACTION: Notice of submission to OMB and 30-day public comment period.

SUMMARY: Under provisions of the Paperwork Reduction Act of 1995 (44 U.S.C. 3507(a)(1)(D)) and 5 CFR Part 1320, the Recovery Accountability and Transparency Board (Board) invites public comments on a revision of a currently approved collection of information (OMB number 0430-0004).

DATES: Public comments on this Information Collection Request (ICR) will be accepted on or before June 1, 2010.

ADDRESSES: Send all comments to Sharon Mar, Desk Officer for the Recovery Accountability and Transparency Board, Office of Management and Budget, New Executive Office Building, Washington, DC 20503; fax 202-395-5167; or e-mail to smar@omb.eop.gov.

Comments Received on the 60-Day Federal Register Notice

On June 18, 2009, the Office of Management and Budget (OMB) through its emergency review process approved the Board's ICR titled “Section 1512 Data Standards.” On August 7, 2009, the Board published a 60-Day Notice to solicit comments on the ICR in the Federal Register (74 FR 39605). Due to subsequent changes in the data elements requested pursuant to OMB Guidance (M-09-21, June 22, 2009), on August 27, 2009, the Board submitted to OMB a revised ICR titled “Section 1512 Data Elements—Federal Financial Assistance,” requesting approval. On September 10, 2009, OMB, through its emergency review process, approved the ICR. On October 8, 2009, the Board published in the Federal Register another 60-Day Notice to solicit comments on the revised ICR (74 FR 51884). The comment period closed on December 7, 2009.

On December 18, 2009, OMB issued new Recovery Act guidance (M-10-08). This guidance, in part, included a new methodology that recipients were to use in calculating the jobs data requested by section 1512 of the American Recovery and Reinvestment Act of 2009 (Recovery Act). Accordingly, the Board revised its ICR, and OMB approved the revised ICR on December 31, 2009. OMB further advised that another 60-Day Notice for the ICR would not be required. Instead, the Board is submitting the ICR to OMB and opening the 30-day public notice and comment period.

The Board received four comments in response to its 60-Day Federal Register Notices. One commenter, a hospital, stated it anticipates that the level of detail required to be reported and the frequency (quarterly) of required reporting will be overly burdensome. This commenter suggested that the reporting requirements be limited to not more than twice a year, that sub-recipient participation be minimized, and that no information be requested on vendors. The commenter further suggested that only basic information from prime recipients on their sub-recipients should be reported (DUNS, location, amount of award, amount expensed); that information on the most highly compensated officers of non-profit institutions should be eliminated from reporting; and that information on research supplies paid to vendors is excessively burdensome and should be eliminated. These suggestions are beyond the statutory or regulatory authority of the Board, which oversees the reporting mandated by Congress, as implemented by OMB.

A second comment was received requesting that OMB allow the Department of Housing and Urban Development (HUD) to grant a waiver to Project-Based Section 8 owners from the Section 1512 reporting requirements. The Board understands that OMB, through HUD, has granted this request on the grounds that the Project-Based Rental Assistance Program is tantamount to an individual benefits program.

A third comment was submitted by an association of 180 research universities and their affiliated academic medical centers and research institutions concerning the annual and quarterly burden associated with section 1512 reporting. The association states that it performed an analysis to estimate the burden associated with section 1512 reporting, focusing on those research institutions which may receive hundreds of Recovery Act awards. The association concluded that the burden associated with each Recovery Act award would be approximately 11.5 hours per quarter. The association's quarterly estimation included time devoted to “accumulating data, analyzing data quality, data entry into FederalReporting.gov, etc.” Given the implementation of a copy-forward feature on the data submitted into FederalReporting.gov, however, it is likely that little data—aside from jobs reporting and project status updates—will need to be accumulated or entered into FederalReporting.gov on a quarterly basis. The Board did take into account the association's note that, of Recovery Act recipients who receive upwards of 15 awards, some will be major research institutions that receive hundreds of awards. As of the date the 60-Day Notice comment period had closed, of the recipients who received 15 or more Recovery Act awards, the average number of awards was approximately 70 per recipient. The Board therefore revised its estimates to account for these larger institutions.

The association also commented on “ways for the Board to enhance the quality, utility, and clarity of the information being collected,” concluding that administrative cost relief for colleges and universities similar to that provided to the States would help those recipients meet the monitoring and reporting requirements of the Recovery Act. The Board believes that the administrative cost issues are more properly addressed to OMB, as the Board lacks authority to effect changes in that regard.

A fourth comment letter was submitted by a university grants office. A number of the university's comments dealt with the frequency and depth of reporting and would therefore be more appropriately addressed to OMB or Congress rather than the Board. The university did raise the matter of time burdens, stating that “[f]or the initial set-up, organization and work flow design, [it] spent in excess of 400 hours for the initial 162 awards” received. (This comes out to approximately 2.5 hours spent per award for the initial entry of each award.) As noted by the association in its comments referenced above, the university stated that it had received more than 100 Recovery awards. As explained above, the Board has accordingly revised its estimates to incorporate the heavier time burden experienced by entities receiving numerous awards.

The university also noted that “[t]here is a considerable amount of one time and static information required to be reported that could be requested once. This information could then be used to automatically populate the actual award spreadsheet.” This suggestion is a good one, and, as explained, the Board has implemented such a solution with the copy-forward feature added to FederalReporting.gov.

SUPPLEMENTARY INFORMATION: Title of Collection: Section 1512 Data Elements—Federal Financial Assistance.

OMB Control No.: 0430-0004.

Description: The American Recovery and Reinvestment Act of 2009 (Pub. L. 111-5, 123 Stat. 115 (2009)) (Recovery Act) established the Board and required that the Board establish and maintain a public-facing Web site to track covered funds. Section 1512 of the Recovery Act requires recipients of Federal financial assistance—namely, grants, cooperative agreements, contracts and loans—to report on the use of funds. These reports are to be submitted to FederalReporting.gov, and certain information from these reports will later be posted on the public-facing Web site Recovery.gov. More specifically, prime recipients, sub-recipients, and vendors who receive Recovery Act funds are required to submit section 1512 data elements as set forth in the Recipient Reporting Data Dictionary (available electronically at https://www.federalreporting.gov/federalreporting/downloads.do). On June 22, 2009, OMB issued the following reporting guidance in its “Implementing Guidance for the Reports on Use of Funds Pursuant to the American Recovery and Reinvestment Act of 2009” (M-09-21):

Prime Recipients: The prime recipient is ultimately responsible for the reporting of all data required by section 1512 of the Recovery Act and the OMB Guidance, including the Federal Funding Accountability and Transparency Act (FFATA) data elements for the sub-recipients of the prime recipient required under section 1512(c)(4). In addition, the prime recipient must report three additional data elements associated with any vendors receiving funds from the prime recipient for any payments greater than $25,000. Specifically, the prime recipient must report the identity of the vendor by reporting the DUNS number, the amount of the payment, and a description of what was obtained in exchange for the payment. If the vendor does not have a DUNS number, then the name and zip code of the vendor's headquarters will be used for identification.

Sub-Recipients of the Prime Recipient: The sub-recipients of the prime recipient may be required by the prime recipient to report the FFATA data elements required under section 1512(c)(4) for payments from the prime recipient to the sub-recipient. The reporting sub-recipients must also report one data element associated with any vendors receiving funds from that sub-recipient. Specifically, the sub-recipient must report, for any payments greater than $25,000, the identity of the vendor by reporting the DUNS number, if available, or otherwise the name and zip code of the vendor's headquarters.

Required Data: The specific data elements to be reported by prime recipients and sub-recipients are included in the Recipient Reporting Data Dictionary. Below are the basic reporting requirements to be reported on prime recipients, recipient vendors, sub-recipients, and sub-recipient vendors. Where noted, the information is not entered by the recipient but rather is derived from another source:

Prime Recipient

1.. Funding Agency Code

2. Awarding Agency Code

3. Program Source (TAS)

4. Award Number

5. Order Number

6. Recipient DUNS Number

7. Parent DUNS (derived from CCR)

8. Recipient Type (derived from CCR)

9. CFDA Number

10. Government Contracting Office Code

11.. Recipient Congressional District

12. Recipient Account Number

13. Final Report (not FFATA)

14. Award Type

15. Award Date

16. Award Description

17. Project Name or Project/Program Title

18. Quarterly Activities/Project

19. Project Status

20. Activity Code (NAICS) or NTEE-NPC)

21. Number of Jobs

22. Descriptions of Jobs Created/Retained

23. Amount of Award

24. Total Federal Amount ARRA Funds Received/Invoiced

25. Total Federal Amount of ARRA Expenditure

26. Total Federal ARRA Infrastructure Expenditure

27. Infrastructure Purpose and Rationale

28. Infrastructure Contact Information

29. Recipient Primary Place of Performance

30. Recipient Officer Names and Compensation (if applicable)

31. Total Number of Sub-Awards to Individuals

32. Total Amount of Sub-Awards to Individuals

33. Total Number of Payments to Vendors Less Than $25,000/Award

34. Total Amount of Payments to Vendors Less Than $25,000/Award

35. Total Number of Sub-Awards Less Than $25,000/Award

36. Total Amount of Sub-Awards Less Than $25,000/Award

Sub-Recipient

1. Sub-Recipient DUNS

2. Sub-Award Number

3. Sub-Recipient Name and Address (derived from CCR)

4. Sub-Recipient Congressional District

5. Amount of Subward

6. Total Subaward Funds Disbursed

7. Sub-Award Date

8. Sub-Recipient Place of Performance

9. Sub-Recipient Officer Names and Compensation (if applicable)

Vendor

1. Award Number—Prime Recipient Vendor

2. Subaward Number—Sub-Recipient Vendor

3. Vendor DUNS Number

4. Vendor HQ Zip Code + 4

5. Vendor Name

6. Product and Service Description

7. Payment Amount

Affected Public: Recipients, as defined in section 1512(b)(1) of the Recovery Act, of Recovery funds (specifically, Federal financial assistance).

Total Estimated Number of Respondents: 80,000.

Frequency of Responses: Quarterly.

Total Estimated Annual Burden Hours: 2,720,000.

Ivan Flores,
Paralegal Specialist, Recovery Accountability and Transparency Board.

[FR Doc. 2010-9942 Filed 4-28-10; 8:45 am]

BILLING CODE 6820-GA-P